RAILROAD RETIREMENT BOARD

Sunshine Act Meeting

Notice is hereby given that the Railroad Retirement Board will hold a meeting on May 18, 2005, 10 a.m., at the Board's meeting room on the 8th floor of its headquarters building, 844 North Rush Street, Chicago, Illinois 60611. The agenda for this meeting follows:

(1) Vacancy Announcement No. 05-23—Information Assurance Analyst Position in the Bureau of Information Services, Information Resources Management Center.

(2) Discussion on the Hiring Plan, Considering All Positions (Field Service and Others).

The entire meeting will be open to the public. The person to contact for more information is Beatrice Ezerski, Secretary to the Board, Phone No. (312) 751-4920.

Dated: May 9, 2005.
Beatrice Ezerski,
Secretary to the Board.

[FR Doc. 05-9557 Filed 5-10-05; 10:21 am]

BILLING CODE 7905-01-M